ENVIRONMENTAL PROTECTION AGENCY

40 CFR Part 52

[SC-50-200405 (b); FRL-7614-6]

Approval and Promulgation of Implementation Plan: Revisions to South Carolina State Implementation Plan: Transportation Conformity Rule

AGENCY: Environmental Protection Agency (EPA).

ACTION: Proposed rule.

SUMMARY: The EPA is approving the State Implementation Plan (SIP) revision submitted by the State of South Carolina on November 19, 2003, for the purpose of establishing specific consultation procedures for the implementation of transportation conformity requirements. This SIP revision also incorporates the State's adoption of the Federal transportation conformity regulations verbatim. EPA is not taking action on portions of the transportation conformity regulations affected by Environmental Defense Fund v. EPA, 167 F.3d 641 (D.C. Cir. 1999), including sections 102(c)(1), 118(e)(1), 120(a)(2), 121(a)(1), and 124(b). In the final rules section of this Federal Register, the EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before March 1, 2004.

ADDRESSES: Comments may be submitted by mail to: Matt Laurita, Air Quality Modeling and Transportation Section, Air Planning Branch, Air, Pesticides and Toxics Management Division, U.S. Environmental Protection Agency Region 4, 61 Forsyth Street, SW., Atlanta, Georgia 30303-8960. Comments may also be submitted electronically, or through hand delivery/courier. Please follow the detailed instructions described in the direct final rule, SUPPLEMENTARY INFORMATION section (sections IV.B.1. through 3.), which is published in the rules section of this Federal Register.

FOR FURTHER INFORMATION CONTACT: Matt Laurita, Air Quality Modeling and Transportation Section, Air Planning Branch, Air, Pesticides and Toxics Management Division, U.S. Environmental Protection Agency Region 4, 61 Forsyth Street, SW., Atlanta, Georgia 30303-8960. The telephone number is (404) 562-9044. Mr. Laurita can also be reached via electronic mail at laurita.matthew@epa.gov.

SUPPLEMENTARY INFORMATION: For additional information see the direct final rule which is published in the rules section of this Federal Register.

Dated: January 5, 2004.
A. Stanley Meiburg,
Acting Regional Administrator, Region 4.

[FR Doc. 04-1819 Filed 1-28-04; 8:45 am]

BILLING CODE 6560-50-P